DEPARTMENT OF HOMELAND SECURITY

Coast Guard

33 CFR Part 100

[Docket No. USCG-2025-0115]

Special Local Regulation; Marine Events Within the Eleventh Coast Guard District—San Diego Crew Classic

AGENCY: Coast Guard, DHS.

ACTION: Notification of enforcement of regulation.

SUMMARY: The Coast Guard will enforce the special local regulation on the waters of Mission Bay, San Diego, CA, during the San Diego Crew Classic on March 28, 2025, through March 30, 2025, from 2 p.m. to 4 p.m. each day. This special local regulation is necessary to provide for the safety of the participants, crew, sponsor vessels, and general users of the waterway. During the enforcement period, persons and vessels are prohibited from entering, transiting through, or anchoring within this regulated area unless authorized by the Captain of the Port, or his designated representative.

DATES: The regulations in 33 CFR 100.1101 will be enforced from March 28, 2025, through March 30, 2025, from 2 p.m. until 4 p.m. each day for the location described in Item No. 3 in Table 1 to § 100.1101.

FOR FURTHER INFORMATION CONTACT: If you have questions about this notification of enforcement, call or email Lieutenant Shelley Turner, Waterways Management, U.S. Coast Guard Sector San Diego, CA; telephone 619-278-7656, email MarineEventsSD@uscg.mil.

SUPPLEMENTARY INFORMATION: The Coast Guard will enforce the special local regulations in 33 CFR 100.1101 for the location identified in Table 1 to § 100.1101, Item No. 3, from March 28, 2025, through March 30, 2025, from 2 p.m. to 4 p.m. each day for the San Diego Crew Classic in Mission Bay, San Diego, CA. This action is being taken to provide for the safety of life on navigable waterways during the event. Our regulation for recurring marine events in the San Diego Captain of the Port Zone, § 100.1101, Table 1 to § 100.1101, Item No. 3, specifies the location of the regulated area for the San Diego Crew Classic, which encompasses portions of Mission Bay. Under the provisions of § 100.1101, persons and vessels are prohibited from entering, transiting through, or anchoring within this regulated area unless authorized by the Captain of the Port, or his designated representative. The Coast Guard may be assisted by other Federal, State, or local law enforcement agencies in enforcing this regulation.

In addition to this notification in the Federal Register, the Coast Guard will provide the maritime community with advance notification of this enforcement period via the Local Notice to Mariners and marine information broadcasts.

P.C. Dill,
Captain, U.S. Coast Guard, Captain of the Port San Diego.

[FR Doc. 2025-04857 Filed 3-20-25; 8:45 am]

BILLING CODE 9110-04-P